DEPARTMENT OF COMMERCE

International Trade Administration

[A-570-904]

Certain Activated Carbon From the People's Republic of China: Notice of Partial Rescission of Antidumping Duty Administrative Review

AGENCY: Import Administration, International Trade Administration, Department of Commerce.

DATES: Effective Date: September 20, 2011.

FOR FURTHER INFORMATION CONTACT: Bob Palmer and Josh Startup, AD/CVD Operations, Office 9, Import Administration, International Trade Administration, U.S. Department of Commerce, 14th Street and Constitution Avenue, NW., Washington, DC 20230; telephone (202) 482-9068 and (202) 482-5260, respectively.

Background

On May 27, 2011, the Department of Commerce (“Department”) published in the Federal Register a notice of initiation of an administrative review of the antidumping duty order on certain activated carbon from the People's Republic of China (“PRC”) covering the period April 1, 2010, to March 31, 2011. See Initiation of Antidumping and Countervailing Duty Administrative Reviews, 76 FR 30912, 30913 (May 27, 2011) (“Initiation Notice”). On August 25, 2011, Petitioners withdrew their request for an administrative review on the following companies:

AmeriAsia Advanced Activated Carbon Products Co., Ltd.; Anhui Handfull International Trading (Group) Co., Ltd.; Anhui Hengyuan Trade Co. Ltd.; Anyang Sino-Shon International Trading Co., Ltd.; Baoding Activated Carbon Factory; Beijing Broad Activated Carbon Co., Ltd.; Beijing Haijian Jiechang Environmental Protection Chemicals; Beijing Hibridge Trading Co., Ltd.; Bengbu Jiutong Trade Co. Ltd.; Changji Hongke Activated Carbon Co., Ltd. Chengde Jiayu Activated Carbon Factory; China National Building Materials and Equipment Import and Export Corp.; China National Nuclear General Company; China Nuclear Ningxia Activated Carbon Plant; Da Neng Zheng Da Activated Carbon Co., Ltd.; Datong Carbon Corporation; Datong Changtai Activated Carbon Co., Ltd.; Datong City Zuoyun County Activated Carbon Co., Ltd.; Datong Fenghua Activated Carbon; Datong Forward Activated Carbon Co., Ltd.; Datong Fuping Activated Carbon Co. Ltd.; Datong Guanghua Activated Co., Ltd.; Datong Hongtai Activated Carbon Co., Ltd.; Datong Huanqing Activated Carbon Co., Ltd.; Datong Huaxin Activated Carbon; Datong Huibao Active Carbon Co., Ltd.; Datong Huibao Activated Carbon Co., Ltd.; Datong Huiyuan Cooperative Activated Carbon Plant; Datong Kaneng Carbon Co. Ltd.; Datong Locomotive Coal & Chemicals Co., Ltd.; Datong Tianzhao Activated Carbon Co., Ltd.; DaTong Tri-Star & Power Carbon Plant; Datong Weidu Activated Carbon Co., Ltd.; Datong Xuanyang Activated Carbon Co., Ltd; Datong Zuoyun Biyun Activated Carbon Co., Ltd.; Datong Zuoyun Fu Ping Activated Carbon Co., Ltd.; Dezhou Jiayu Activated Carbon Factory; Dongguan Baofu Activated Carbon; Dongguan SYS Hitek Co., Ltd.; Dushanzi Chemical Factory; Fu Yuan Activated Carbon Co., Ltd.; Fujian Jianyang Carbon Plant; Fujian Nanping Yuanli Activated Carbon Co., Ltd.; Fujian Yuanli Active Carbon Co., Ltd.; Fuzhou Taking Chemical; Fuzhou Yihuan Carbon; Great Bright Industrial; Hangzhou Hengxing Activated Carbon; Hangzhou Hengxing Activated Carbon Co., Ltd.; Hangzhou Linan Tianbo Material (HSLATB); Hangzhou Nature Technology; Hebei Shenglun Import & Export Group Company; Hegongye Ninxia Activated Carbon Factory; Heilongjiang Provincial Hechang Import & Export Co., Ltd.; Hongke Activated Carbon Co., Ltd.; Huaibei Environment Protection Material Plant; Huairen Huanyu Purification Material Co., Ltd.; Huairen Jinbei Chemical Co., Ltd.; Huaiyushan Activated Carbon Group; Huatai Activated Carbon; Huzhou Zhonglin Activated Carbon; Inner Mongolia Taixi Coal Chemical Industry Limited Company; Itigi Corp. Ltd.; J&D Activated Carbon Filter Co. Ltd.; Jiangle County Xinhua Activated Carbon Co., Ltd.; Jiangsu Taixing Yixin Activated Carbon Technology Co., Ltd.; Jiangxi Hanson Import Export Co.; Jiangxi Huaiyushan Activated Carbon; Jiangxi Huaiyushan Activated Carbon Group Co.; Jiangxi Huaiyushan Suntar Active Carbon Co., Ltd.; Jiangxi Jinma Carbon; Jianou Zhixing Activated Carbon; Jiaocheng Xinxin Purification Material Co., Ltd.; Jing Mao (Dongguan) Activated Carbon Co., Ltd.; Kaihua Xingda Chemical Co., Ltd.; Kemflo (Nanjing) Environmental Tech; Keyun Shipping (Tianjin) Agency Co., Ltd.; Kunshan Actview Carbon Technology Co., Ltd.; Langfang Winfield Filtration Co.; Link Shipping Limited; Longyan Wanan Activated Carbon; Mindong Lianyi Group; Nanjing Mulinsen Charcoal; Nantong Ameriasia Advanced Activated Carbon Product Co., Ltd.; Ningxia Baota Activated Carbon Co., Ltd.; Ningxia Baota Active Carbon Plant; Ningxia Guanghua A/C Co., Ltd.; Ningxia Blue-White-Black Activated Carbon (BWB); Ningxia Fengyuan Activated Carbon Co., Ltd.; Ningxia Guanghua Activated Carbon Co., Ltd.; Ningxia Guanghua Chemical Activated Carbon Co., Ltd.; Ningxia Haoqing Activated Carbon Co., Ltd.; Ningxia Henghui Activated Carbon; Ningxia Honghua Carbon Industrial Corporation; Ningxia Huinong Xingsheng Activated Carbon Co., Ltd.; Ningxia Jirui Activated Carbon; Ningxia Lingzhou Foreign Trade Co., Ltd.; Ningxia Luyuangheng Activated Carbon Co., Ltd.; Ningxia Pingluo County Yaofu Activated Carbon Plant; Ningxia Pingluo Xuanzhong Activated Carbon Co., Ltd.; Ningxia Pingluo Yaofu Activated Carbon Factory; Ningxia Taixi Activated Carbon; Ningxia Tianfu Activated Carbon Co., Ltd.; Ninxia Tongfu Coking Co., Ltd.; Ningxia Weining Active Carbon Co., Ltd.; Ningxia Xingsheng Coal and Active Carbon Co., Ltd.; Ningxia Xingsheng Coke & Activated Carbon Co., Ltd.; Ningxia Yinchuan Lanqiya Activated Carbon Co., Ltd.; Ningxia Yirong Alloy Iron Co., Ltd.; Ningxia Zhengyuan Activated; Nuclear Ningxia Activated Carbon Co., Ltd.; OEC Logistic Qingdao Co., Ltd.; Panshan Import and Export Corporation; Pingluo Xuanzhong Activated Carbon Co., Ltd.; Pingluo Yu Yang Activated Carbon Co., Ltd.; Shanghai Activated Carbon Co., Ltd.; Shanghai Coking and Chemical Corporation; Shanghai Goldenbridge International; Shanghai Jiayu International Trading (Dezhou Jiayu and Chengde Jiayu); Shanghai Jinhu Activated Carbon (Xingan Shenxin and Jiangle Xinhua); Shanghai Light Industry and Textile Import & Export Co., Ltd.; Shanghai Mebao Activated Carbon; Shanghai Xingchang Activated Carbon; Shanxi Blue Sky Purification Material Co., Ltd.; Shanxi Carbon Industry Co., Ltd.; Shanxi Newtime Co., Ltd.; Shanxi Qixian Foreign Trade Corporation; Shanxi Qixian Hongkai Active Carbon Goods; Shanxi Supply and Marketing Cooperative; Shanxi Tianli Ruihai Enterprise Co.; Shanxi Xiaoyi Huanyu Chemicals Co., Ltd.; Shanxi Xinhua Activated Carbon Co., Ltd.; Shanxi Xinhua Chemical Co., Ltd. (formerly Shanxi Xinhua Chemical Factory); Shanxi Xinhua Protective Equipment; Shanxi Xinshidai Import Export Co., Ltd.; Shanxi Xuanzhong Chemical Industry Co., Ltd.; Shanxi Zuoyun Yunpeng Coal Chemistry; Shenzhen Sihaiweilong Technology Co.; Sincere Carbon Industrial Co. Ltd.; Sinoacarbon International Trading Co, Ltd.; Taining Jinhu Carbon; Tianchang (Tianjin) Activated Carbon; Tianjin Century Promote International Trade Co., Ltd.; Taiyuan Hengxinda Trade Co., Ltd.; Tonghua Bright Future Activated Carbon Plant; Tonghua Xinpeng Activated Carbon Factory; Triple Eagle Container Line; Uniclear New-Material Co., Ltd.; Valqua Seal Products (Shanghai) Co.; VitaPac (HK) Industrial Ltd.; Wellink Chemical Industry; Xi Li Activated Carbon Co., Ltd.; Xi'an Shuntong International Trade & Industrials Co., Ltd.; Xiamen All Carbon Corporation; Xingan County Shenxin Activated Carbon Factory; Xinhua Chemical Company Ltd.; Xuanzhong Chemical Industry; Yangyuan Hengchang Active Carbon; Yicheng Logistics Yinchuan Lanqiya Activated Carbon Co., Ltd.; Zhejiang Quizhou Zhongsen Carbon; Zhejiang Xingda Activated Carbon Co., Ltd.; Zhejiang Yun He Tang Co., Ltd.; Zhuxi Activated Carbon; and, Zuoyun Bright Future Activated Carbon Plant.¹

¹ Petitioners also withdrew their request for review of United Manufacturing International (Beijing) Ltd. (“UMI”). However, UMI has submitted a request on its behalf for an administrative review in the current proceeding. See, Letter from UMI, dated April 21, 2011.

Partial Rescission

Pursuant to 19 CFR 351.213(d)(1), the Secretary will rescind an administrative review, in whole or in part, if a party who requested the review withdraws the request within 90 days of the date of publication of notice of initiation of the requested review. The aforementioned requests for review were withdrawn within the 90-day period. Because the requests for review were timely withdrawn and because no other party requested a review of the aforementioned companies, in accordance with 19 CFR 351.213(d)(1), we are partially rescinding this review with respect to these companies.

Assessment Rates

The Department will instruct U.S. Customs and Border Protection (“CBP”) to assess antidumping duties on all appropriate entries. See 19 CFR 351.212(b)(1). For those companies for which this review has been rescinded and which have a separate rate from a prior segment of this proceeding, antidumping duties shall be assessed at rates equal to the cash deposit of estimated antidumping duties required at the time of entry, or withdrawal from warehouse, for consumption, in accordance with 19 CFR 351.212(c)(2). Accordingly, the Department intends to issue assessment instructions, based on separate rates assigned in prior segments of the proceeding, to CBP 15 days after publication of this notice for the following companies: Datong Locomotive Coal & Chemicals Co., Ltd.; Ningxia Lingzhou Foreign Trade Co., Ltd.; Shanxi Qixian Foreign Trade Corporation; Shanxi Xuanzhong Chemical Industry Co., Ltd.; and Xi'an Shuntong International Trade & Industrials Co., Ltd.

For those companies not assigned a separate rate from a prior segment of the proceeding, the Department has stated that they belong to the PRC-wide entity and that the administrative review will continue for these companies. See Initiation Notice. The Department intends to issue liquidation instructions for the PRC-wide entity 15 days after publication of the final results of this review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: September 14, 2011.
Christian Marsh,
Deputy Assistant Secretary for Antidumping and Countervailing Duty Operations.

[FR Doc. 2011-24145 Filed 9-19-11; 8:45 am]

BILLING CODE 3510-DS-P